DEPARTMENT OF HEALTH AND HUMAN SERVICES

Centers for Medicare & Medicaid Services

[Document Identifier: CMS-10708]

Agency Information Collection Activities: Submission for OMB Review; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by March 20, 2020.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR, Email: OIRA_submission@omb.eop.gov.

To obtain copies of a supporting statement and any related forms for the proposed collection(s) summarized in this notice, you may make your request using one of following:

1. Access CMS' website address at website address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection (Request for a new OMB control number); Title of Information Collection: Proposed Repetitive, Scheduled Non-Emergent Ambulance Transport (RSNAT) Prior Authorization Process and Requirements for a Potential National Model; Use: CMS is pursuing approval to potentially expand the RSNAT Prior Authorization Model nationally if the Secretary determines that the expansion criteria are met. The potential national model would follow the same design as the current RSNAT Prior Authorization Model, as described in the September 16, 2019, Federal Register (84 FR 48620) and may be implemented in multiple phases. If such a national model moves forward, the information that would be required under this collection would be used to determine proper payment for repetitive, scheduled non-emergent ambulance transports. The information required in a prior authorization request package would include all medical documents and information to show that the number and level of transports requested are reasonable and necessary for the beneficiary and meet other Medicare requirements. If an ambulance supplier does not submit a prior authorization request by the fourth round trip in a 30-day period, and the claim is submitted to the Medicare Administrator Contractor (MAC) for payment, then the claim would be stopped for prepayment review and medical documentation will be requested.

Trained nurse reviewers from the MAC would review the information from the ambulance supplier to determine if the beneficiary meets Medicare's requirements for the transport and if the beneficiary needs the level of care requested. The MAC would also use the information to determine if the number of trips requested is reasonable and necessary. Form Number: CMS-10708 (OMB control number: 0938-NEW); Frequency: Occasionally; Affected Public: Private Sector (Business or other for-profits, Not-for-profit institutions); Number of Respondents: 1,745; Number of Responses: 216,941; Total Annual Hours: 113,706. (For questions regarding this collection contact Angela Gaston at 410-786-7409.)

Dated: February 14, 2020.
William N. Parham, III,
Director, Paperwork Reduction Staff, Office of Strategic Operations and Regulatory Affairs.

[FR Doc. 2020-03357 Filed 2-18-20; 8:45 am]

BILLING CODE 4120-01-P